DEPARTMENT OF HOMELAND SECURITY

Coast Guard

33 CFR Part 117

[Docket No. USCG-2013-0601]

Drawbridge Operation Regulation; The Straights, Harkers Island, NC

AGENCY: Coast Guard, DHS.

ACTION: Notice of deviation from drawbridge regulation.

SUMMARY: The Coast Guard has issued a temporary deviation from the operating schedule that governs the swing of the Route 70/Harkers Island Bridge, across The Straights, mile 0.6, Harkers Island, NC. This deviation is necessary to facilitate coupling repair on the Route 70/Harkers Island Bridge. This temporary deviation allows the swing bridge to remain in the closed to navigation position.

DATES: This deviation is effective from noon until 11:59 p.m. on August 5, 2013.

ADDRESSES: The docket for this deviation, [USCG-2013-0601] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch Fifth District, Coast Guard; telephone 757-398-6557, email James.L.Rousseau2@uscg.mil. If you have questions on viewing the docket, call Barbara Hairston, Program Manager, Docket Operations, 202-366-9826.

SUPPLEMENTARY INFORMATION: The North Carolina Department of Transportation, who owns and operates this swing-type bridge, has requested a temporary deviation from the current operating regulations set out in 33 CFR 117.5 to facilitate coupling repair.

Under the regular operating schedule for the Route 70/Harkers Island Bridge, across The Straights, mile 0.6, in Harkers Island, NC, the draw must open promptly and fully for the passage of vessels when a request or signal to open is given. The drawbridge has a vertical clearance in the closed position to vessels of 14.2 feet, above mean high water.

Under this temporary deviation, the drawbridge will be maintained in the closed to navigation position from noon to 11:59 p.m. on August 5, 2013; the bridge will operate under normal operating schedule at all other times. The drawbridge normally opens on demand with several small commercial and recreational vessels transiting a week. Emergency openings cannot be provided. There are no alternate routes for vessels transiting this section of The Straights, but vessels that require an opening may proceed before noon and after midnight. Mariners able to pass under the bridge in the closed position may do so at any time and are advised to proceed with caution.

The Straights is used by a variety of vessels including small commercial and recreational vessels. The Coast Guard has carefully coordinated the restrictions with these waterway users. The Coast Guard will also inform additional waterway users through our Local and Broadcast Notices to Mariners of the closure periods for the bridge so that vessels can arrange their transits to minimize any impacts caused by the temporary deviation.

In accordance with 33 CFR 117.35(e), the drawbridge must return to its regular operating schedule immediately at the end of the designated time period. This deviation from the operating regulations is authorized under 33 CFR 117.35.

Dated: July 2, 2013.
Waverly W. Gregory, Jr.,
Bridge Program Manager, Fifth Coast Guard District.

[FR Doc. 2013-16809 Filed 7-12-13; 8:45 am]

BILLING CODE 9110-04-P